FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 24, 2017.

A. Federal Reserve Bank of Chicago (Colette A. Fried, Assistant Vice President) 230 South LaSalle Street, Chicago, Illinois 60690-1414:

1. Paul James Sentry, Verona, Wisconsin; to acquire more than 25 percent of Deerfield Financial Corporation, Madison, Wisconsin, and thereby indirectly control Bank of Deerfield, Deerfield, Wisconsin.

B. Federal Reserve Bank of Minneapolis (Jacquelyn K. Brunmeier, Assistant Vice President) 90 Hennepin Avenue, Minneapolis, Minnesota 55480-0291:

1. Timothy Schneider, individually and as trustee of the Timothy Schneider Irrevocable Trust (“Trust”), both in Adams, Minnesota; to acquire more than 10 percent of Adams Bancshares, Inc., and thereby indirectly control United Farmers State Bank, both in Adams, Minnesota.

C. Federal Reserve Bank of Kansas City (Dennis Denney, Assistant Vice President) 1 Memorial Drive, Kansas City, Missouri 64198-0001:

1. Clay Muegge and Chad Muegge, both of Lamont, Oklahoma; to retain shares of State Exchange Bancshares, Inc., and thereby indirectly retain shares of State Exchange Bank, both of Lamont, Oklahoma; and for approval as members of the Muegge Family Group that controls State Exchange Bancshares, Inc.

Board of Governors of the Federal Reserve System, January 3, 2017.
Michele Taylor Fennell,
Assistant Secretary of the Board.

[FR Doc. 2017-00032 Filed 1-5-17; 8:45 am]

BILLING CODE 6210-01-P